DEPARTMENT OF DEFENSE

Department of the Army

Availability of Non-Exclusive, Exclusive License or Partially Exclusive Licensing of U.S. Patent Concerning Method of Forming an Electrically Conductive Connection Utilizing a Polynucleotide/Conductive Polymer Complex

AGENCY: Department of the Army, DoD.

ACTION: Notice.

SUMMARY: In accordance with 37 CFR Part 404.6, announcement is made of the availability for licensing of U.S. Patent No. US 7,056,675 B2 entitled “Method of Forming an Electrically Conductive Connection Utilizing a Polynucleotide/Conductive Polymer Complex” issued June 6, 2006. This patent has been assigned to the United States Government as represented by the Secretary of the Army.

FOR FURTHER INFORMATION CONTACT: Mr. Arnold Boucher at U.S. Army Soldier Systems Center, Kansas Street, Natick, MA 01760, Phone: (508) 233-5431 or e-mail: Arnold.Boucher@natick.army.mil.

SUPPLEMENTARY INFORMATION: Any licenses granted shall comply with 35 U.S.C. 209 and 37 CFR Part 404.

Brenda S. Bowen,
Army Federal Register Liaison Officer.

[FR Doc. 06-5445 Filed 6-15-06; 8:45 am]

BILLING CODE 3710-08-M